DEPARTMENT OF THE INTERIOR

Office of the Secretary

American Samoa Economic Advisory Commission

AGENCY: Office of Insular Affairs, Interior.

ACTION: Notice.

SUMMARY: The American Samoa Economic Advisory Commission (ASEAC) will conduct hearings in American Samoa from Monday, March 27 to Thursday, March 30, 2000. The purpose of the hearings is to gather relevant information from the American Samoa Government and community-at-large regarding the future economic development of the territory.

The following is the schedule of dates, time and location of the hearings: Monday, March 27 from 2 p.m. to 5 p.m. at the Fono buildings to hear testimonies of the Governor, Senate President, Speaker, and other members of the local legislature; Tuesday, March 28 from 9 a.m. to 11 a.m. at the American Samoa Community College to hear testimonies of selected local government officials. From 5 p.m. to 9 p.m. to hear testimonies from the community; Wednesday, March 29, from 9 a.m. to 12 noon at Pago Bay Restaurant to hear testimonies from businesses and the community; Thursday, March 30 from 9:30 a.m. to 11:30 a.m. at the Rainmaker Hotel to hear testimonies from other officials. All parties interested in participating in the hearings must submit written testimony by March 15, 2000, to the American Samoa Economic Advisory Commission, 745 Fort Street, Suite 600, Honolulu, Hawaii, 96814; Fax: (808) 538-8705 or E-mail: DOIASEAC@lava.net.

FOR FURTHER INFORMATION CONTACT: Gail Mukaihata-Hanneman, 745 Fort Street, Suite 600, Honolulu, Hawaii 96814, (808) 535-4117; or Nikolao I. Pula, Office of Insular Affairs, Department of the Interior, 1849 C Street, N.W., MS 4328, Washington, DC 20240, (202) 208-6816.

Dated: March 6, 2000.
Ferdinand Aranza,
Director, Office of Insular Affairs.

[FR Doc. 00-5840 Filed 3-9-00; 8:45 am]

BILLING CODE 4310-93-M